INTERNATIONAL TRADE COMMISSION

[Investigation No. 337-TA-1149]

Certain Semiconductor Devices, Integrated Circuits, and Consumer Products Containing the Same; Commission Determination Not To Review an Initial Determination Terminating the Investigation Based on a Settlement Agreement and a Withdrawal of the Complaint; Termination of the Investigation

AGENCY: U.S. International Trade Commission.

ACTION: Notice.

SUMMARY: Notice is hereby given that the U.S. International Trade Commission has determined not to review an initial determination (“ID”) (Order No. 33) issued by the presiding administrative law judge (“ALJ”) granting a motion to terminate the investigation based on a settlement agreement and a withdrawal of the complaint.

FOR FURTHER INFORMATION CONTACT: Robert Needham, Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on April 3, 2019, based on a complaint filed by Innovative Foundry Technologies LLC of Portsmouth, New Hampshire (“IFT”). 84 FR 13065. The complaint, as supplemented, alleges violations of section 337 of the Tariff Act of 1930, as amended, 19 U.S.C. 1337, in the importation into the United States, the sale for importation, and the sale within the United States after importation of certain semiconductor devices, integrated circuits, and consumer products containing the same by reason of infringement of certain claims of U.S. Patent Nos. 6,583,012; 6,797,572; 7,009,226; 7,880,236; and 9,373,548. Id. The Commission's notice of investigation named as respondents BBK Communication Technology Co., Ltd., of Dongguan, China; Vivo Mobile Communication Co., Ltd., of Dongguan, China; OnePlus Technology (Shenzhen) Co., Ltd., of Shenzhen, China; Guangdong OPPO Mobile Telecommunications Co., Ltd., of Dongguan, China; Hisense Electric Co., Ltd. of Quingdao, China; Hisense USA Corporation of Suwanee, Georgia; Hisense USA Multimedia R & D Center Inc. of Suwanee, Georgia; TCL Corporation of Huizhou City, China; TCL Communication, Inc. of Irvine, California; TTE Technology, Inc. (d/b/a TCL America) of Wilmington, Delaware; TCT Mobile (US) Inc. of Irvine, California; VIZIO, Inc. of Irvine, California; MediaTek Inc. of Hsinchu City, Taiwan, MediaTek USA Inc. of San Jose, California, and Mstar Semiconductor, Inc. of ChuPei City, Taiwan (collectively, “MediaTek”); Qualcomm Incorporated of San Diego, California, and Qualcomm Technologies, Inc. of San Diego, California (collectively, “Qualcomm”); and Taiwan Semiconductor Manufacturing Company Limited of Hsinchu City, Taiwan, TSMC North America of San Jose, California, and TSMC Technology, Inc. of San Jose, California (collectively, “TSMC”). Id. at 13066. The complaint and notice of investigation were amended to add as respondents Dongguan OPPO Precision Electronic Corp., Ltd.; TCL Mobile Communication (HK) Co., Ltd.; and Huizhou TCL Mobile Communication Co. Ltd. Order No. 15 (Jun. 13, 2019), not reviewed Notice (Jul. 7, 2019); Order No. 24 (Jul. 22, 2019), not reviewed Notice (Aug. 13, 2019). The Office of Unfair Import Investigations (“OUII”) is participating in this investigation. 84 FR 13066.

On September 4, 2019, IFT filed an unopposed motion to terminate the investigation with respect to TSMC, MediaTek, and Qualcomm based on a settlement agreement, and to terminate the investigation with respect to all other respondents based on a withdrawal of the complaint. On September 6, 2019, OUII filed a response in support of the motion.

On September 27, 2019, the ALJ issued the subject ID, granting the motion to terminate the investigation based on a settlement agreement and the withdrawal of the complaint. The ALJ found that the motion complied with the Commission Rules and that there was no evidence that termination was contrary to the public interest. No petitions for review of the ID were received.

The Commission has determined not to review the subject ID. The investigation is terminated.

The authority for the Commission's determination is contained in section 337 of the Tariff Act of 1930, as amended (19 U.S.C. 1337), and in part 210 of the Commission's Rules of Practice and Procedure (19 CFR part 210).

By order of the Commission.
Issued: October 17, 2019.
Lisa Barton,
Secretary to the Commission.

[FR Doc. 2019-23071 Filed 10-22-19; 8:45 am]

BILLING CODE 7020-02-P